DEPARTMENT OF HEALTH AND HUMAN SERVICES

Centers for Disease Control and Prevention

Citizens Advisory Committee on Public Health Service Activities and Research at Department of Energy (DOE) Sites: Idaho National Engineering and Environmental Laboratory Health Effects Subcommittee (INEELHES) Meeting: Cancelled

In accordance with section 10(a)(2) of the Federal Advisory Committee Act (Pub. L. 92-463), the Agency for Toxic Substances and Disease Registry (ATSDR) and the Centers for Disease Control and Prevention (CDC) announce the following meeting.

Name: Citizens Advisory Committee on Public Health Service Activities and Research at Department of Energy (DOE) Sites: Idaho National Engineering and Environmental Laboratory Health Effects Subcommittee (INEELHES) meeting Cancelled.

Times and Dates: 8:30 a.m.-4:45 p.m., October 16, 2001. 8:30 a.m.-3:45 p.m., October 17, 2001.

Place: WestCoast Pocatello Hotel, 1555 Pocatello Creek Road, Pocatello, Idaho 83201, telephone, (208)233-2200, fax (208)234-4524.

Status: Meeting Cancelled. Published in the Federal Register: September 18, 2001 (Volume 66, Number 181) [Notices] [Page 48147] From the Federal Register Online via GPO Access [wais.access.gpo.gov] [DOCID:fr18se01-45]

Contact Person for More Information: Paul G. Renard, Executive Secretary, INEELHES, NCEH, CDC, 1600 Clifton Road, NE. (E-39), Atlanta, GA 30333, telephone (404)498-1800, fax (404)498-1811.

The Director, Management Analysis and Services Office, has been delegated the authority to sign Federal Register notices pertaining to announcements of meetings and other committee management activities for both CDC and ATSDR.

Dated: September 18, 2001.
John Burckhardt,
Acting Director, Management Analysis and Services Office, Centers for Disease Control and Prevention.

[FR Doc. 01-23746 Filed 9-21-01; 8:45 am]

BILLING CODE 4163-18-P